DEPARTMENT OF EDUCATION

34 CFR Chapter III

[Docket ID ED-2014-OSERS-0053]

Proposed Priority—Technical Assistance on State Data Collection—IDEA Data Management Center

[CFDA Number: 84.373M.]

AGENCY: Office of Special Education and Rehabilitative Services, Department of Education.

ACTION: Proposed priority.

SUMMARY: The Assistant Secretary for the Office of Special Education and Rehabilitative Services (OSERS) proposes a funding priority under the Technical Assistance on State Data Collection program. The Assistant Secretary may use this priority for competitions in fiscal year (FY) 2014 and later years. We take this action to focus attention on an identified national need to provide technical assistance (TA) to improve the capacity of States to meet the data collection requirements of the Individuals with Disabilities Education Act (IDEA).

DATES: We must receive your comments on or before July 1, 2014.

ADDRESSES: Submit your comments through the Federal eRulemaking Portal or via postal mail, commercial delivery, or hand delivery. We will not accept comments by fax or by email or those submitted after the comment period. Please submit your comments only one time, in order to ensure that we do not receive duplicate copies. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about this proposed priority, address them to Meredith Miceli, U.S. Department of Education, 400 Maryland Avenue SW., Room 4071, Potomac Center Plaza (PCP), Washington, DC 20202-2600.

Privacy Note: The Department's policy is to make all comments received from members of the public available for public viewing in their entirety on the Federal eRulemaking Portal at www.regulations.gov. Therefore, commenters should be careful to include in their comments only information that they wish to make publicly available.

FOR FURTHER INFORMATION CONTACT: Meredith Miceli. Telephone: (202) 245-6028 or by email: Meredith.Miceli@ed.gov.

If you use a telecommunications device for the deaf (TDD) or a text telephone (TTY), call the Federal Relay Service (FRS), toll free, at 1-800-877-8339.

SUPPLEMENTARY INFORMATION:

Invitation to Comment: We invite you to submit comments regarding this proposed priority. To ensure that your comments have maximum effect in developing the final priority, we urge you to clearly identify the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice in room 4071, 550 12th Street SW., PCP, Washington, DC, between the hours of 8:30 a.m. and 4:00 p.m., Washington, DC time, Monday through Friday of each week except Federal holidays.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Technical Assistance on State Data Collection program is to improve the capacity of States to meet the IDEA data collection and reporting requirements. Funding for the program is authorized under section 611(c)(1) of IDEA, which gives the Secretary the authority to reserve funds appropriated under Part B of the IDEA to provide TA activities authorized under section 616(i) of IDEA. Section 616(i) of IDEA requires the Secretary to review the data collection and analysis capacity of States to ensure that data and information determined necessary for implementation of IDEA section 616 are collected, analyzed, and accurately reported to the Secretary. It also requires the Secretary to provide TA, where needed, to improve the capacity of States to meet the data collection requirements under IDEA Parts B and C, which include the data collection requirements in IDEA sections 616 and 618.

Program Authority: 20 U.S.C. 1411(c), 1416(i), 1418(c), and 1442.

Applicable Program Regulations: 34 CFR 300.702.

Proposed Priority:

This notice contains one proposed priority.

IDEA Data Management Center.

Background:

The purpose of this proposed priority is to fund a cooperative agreement to establish and operate an IDEA Data Management Center (Center) to achieve, at a minimum, the following expected outcomes: (a) Improve States' data management procedures and data systems architecture ¹ to build data files and reports to improve States' capacity to meet the Part B reporting requirements under sections 616 and 618 of IDEA; and (b) improve States' capacity to utilize their statewide longitudinal data systems ² (SLDS) to report high-quality data under IDEA Part B required under sections 616 and 618 of IDEA. The Center's work will comply with the privacy and confidentiality protections in the Family Educational Rights and Privacy Act (FERPA) and IDEA and will not provide the Department with access to child-level data.

¹ “Data architecture is a set of rules, policies, standards and models that govern and define the type of data collected and how it's used, stored, managed and integrated within an organization and its database systems. It provides a formal approach to creating and managing the flow of data and how it's processed across the organization's IT systems and applications.” Techopedia. Retrieved from www.techopedia.com/definition/29452/data-architect.

² The term statewide longitudinal data system refers to “a data system that collects and maintains detailed, high quality, student- and staff-level data that are linked across entities over time, providing a complete academic and performance history for each student; and makes these data accessible through reporting and analysis tools.” Data Quality Campaign. (2012). Retrieved from www.dataqualitycampaign.org/files/2013_DQC_Data_for_Action_Survey_Glossary.pdf.

There is a need to assist States in restructuring their existing, often fragmented, data systems and in aligning their data collection for students with disabilities to their data collection for the general student population in the SLDS so that States can improve the validity and reliability of the data they report to the Secretary and the public as required under sections 616 and 618 of IDEA.

Currently, most students with disabilities are educated in the same settings as students without disabilities; however, the majority of States continue to treat data about students with disabilities as separate from the data for students without disabilities. States are using alternate data collections to build reports to meet the reporting requirements under sections 616 and 618 of IDEA (e.g., discipline, assessment, educational environments), rather than including all data elements needed for Federal reporting in their SLDS.

Based on State responses to an annual survey of State education metadata conducted by the U.S. Department of Education (Department) during the school year (SY) 2012-2013, only 26 of the 60 State educational agencies (SEAs) ³ reported that all of their IDEA Part B section 618 data were integrated into their student information system,⁴ and only 20 of the 60 SEAs reported that all of their IDEA Part B section 618 data were integrated into their SLDS.

³ The 60 entities that receive IDEA Part B formula funds are the 50 States, District of Columbia, Puerto Rico, Virgin Islands, American Samoa, Guam, Northern Marianas, Federated States of Micronesia, Palau, Republic of Marshall Islands, and the Bureau of Indian Education.

⁴ The term student information system refers to “a software application for education establishments to manage student data such as attendance, demographics, test scores, grades, or schedules in real time.” Data Quality Campaign. (2012). Retrieved from www.dataqualitycampaign.org/files/2013_DQC_Data_for_Action_Survey_Glossary.pdf.

Further, various programs, districts, and other facilities are using different collection processes to gather data for required data submissions. Federal data reports that include the same data elements on the same subgroups of students include data that often do not match. These situations hinder the States' capacity to report valid and reliable data to the Secretary and to the public as required by IDEA section 616(b)(2)(B) and to meet IDEA data collection and reporting requirements in IDEA sections 616 and 618.

States with fragmented data systems are also more likely to have missing data. For example, if a State collects and maintains data on disciplinary removals of students with disabilities in a special education data system and maintains data on the demographics of students in another data system, the State may not be able to accurately match all data on disciplinary removals with the demographics data needed to meet the IDEA reporting requirements.

The Office of Special Education Programs (OSEP) followed up with 14 SEAs regarding concerns or questions about the completeness of the IDEA discipline data SY 2012-13 submitted to the Department. Nine of the 14 SEAs reported that they did not use, or only minimally used, their SLDS for purposes of IDEA section 618 reporting.

In addition, States with fragmented systems often lack the capacity to cross-validate related data elements. For example, if the data on the type of statewide assessment in which students with disabilities participate is housed in one database and the grade in which students are enrolled is housed in another database, the State may not be able to accurately match the assessment data to the accurate grade level to meet the IDEA reporting requirements under IDEA sections 616 and 618.

OSEP followed up with 43 SEAs regarding the completeness of the SY 2011-12 IDEA assessment data submitted to the Department. Twenty-eight of the 43 SEAs reported that they did not use, or only minimally used, their SLDS for purposes of IDEA section 618 reporting.

This kind of fragmentation is not limited to IDEA data. The Office of Planning, Evaluation, and Policy Development (OPEPD) and the National Center for Education Statistics (NCES) provide assistance to States to meet data reporting challenges through their State Education Information Support Services (SEISS) project. The SEISS project provides support to improve the quality, comparability, timeliness, and usefulness of elementary and secondary education data collected by each SEA and reported to the Federal government via the EDFacts reporting system. An additional benefit is that the State can also use the improved data as they report to school districts, schools, and other agencies within the State. The SEISS work supports the collection of the data required by a variety of the Department's program offices (e.g., NCES, and the Office of Elementary and Secondary Education).

In 2013, SEISS worked with seven States to document how elementary and secondary education data and meta-data were collected and maintained for the Common Core Data (CCD) and Consolidated State Performance Report (CSPR) data submissions for each of the States. To document the States' processes, SEISS: (1) Mapped States' source systems related to CCD and CSPR data to the common education data standards (CEDS); ⁵ and (2) worked across the Department to develop CEDS “Connections” ⁶ related to many of the EDFacts file specifications associated with the CCD and CSPR data. SEISS found that: (1) States are using data collections other than their SLDS to build reports to meet Federal reporting requirements; and (2) different data collection processes are being used by various programs, schools, districts, and other facilities to gather data for required data submissions.

⁵ The Common Education Data Standards (CEDS) is “a specified set of the most commonly used education data elements to support the effective exchange of data within and across States, as students transition between educational sectors and levels, and for Federal reporting” (National Center for Education Statistics, Common Education Data Standards, retrieved from http://nces.ed.gov/programs/ceds/). For more information, see: http://ceds.ed.gov/Default.aspx.

⁶ CEDS Connect tool “allows stakeholders to generate specific and relevant maps to a growing pool of CEDS “connections.” Stakeholders from varied educational organizations can use the tool to identify policy questions and related data elements, define analytic approaches, calculate metrics and indicators, address reporting requirements, etc. CEDS Connect enables users at different levels to consider the metric definitions of data points such as graduation rate, program enrollment, or academic outcomes. By establishing the data elements necessary to answer a given question, as well as recommended logic and routines for analysis, CEDS Connect is designed to help the education data community work together towards standard definitions and methodologies that will provide common, comparable data measurements and reporting that can cross districts, States, and educational agencies” (Common Education Data Standards, retrieved from https://ceds.ed.gov/pdf/ceds-101.pdf). For more information on CEDS Connections, see: https://ceds.ed.gov/connect.aspx.

The proposed Center will use the lessons learned from the SEISS project and similar data management improvement efforts to build and improve States' capacity to meet the IDEA data collection and reporting requirements by integrating data on students with disabilities into SLDS. OSEP will work with NCEDS and its TA providers to prevent duplication of efforts between SEISS and this proposed IDEA Data Management Center.

The Center will also work with other TA centers funded by OSEP. OSEP currently funds the Center for IDEA Early Childhood Data Systems (DaSy Center, $6.5 million per year), which focuses on helping States build an early childhood data infrastructure to meet IDEA early childhood data collection requirements, and the IDEA Data Center (IDC, $6.5 million per year), which focuses on assisting States with developing necessary data validation processes and procedures to ensure high quality IDEA data submissions. Finally, all TA conducted by the IDEA Data Management Center will be coordinated with other relevant Federal data efforts to help States incorporate best practices in data management, reporting, confidentiality and other aspects of data systems (e.g., SLDS Program, the Privacy Technical Assistance Center, and the CEDS initiative).

Proposed Priority:

The purpose of this proposed priority is to fund a cooperative agreement to establish and operate an IDEA Data Management Center (Center) to achieve, at a minimum, the following expected outcomes: (a) Improve States' data management procedures and data systems architecture to build data files and reports to improve States' capacity to meet the Part B reporting requirements under sections 616 and 618 of IDEA; and (b) improve States' capacity to utilize their SLDS to report high-quality data under IDEA Part B as required under sections 616 and 618 of IDEA. The Center's work will comply with the privacy and confidentiality protections in FERPA and IDEA and will not provide the Department with access to child-level data.

Project Activities. To meet the requirements of this priority, the IDEA Data Management Center at a minimum, must:

Knowledge Development Activities in Year One.

(a) Document the methods of collecting, processing, and reporting the IDEA Part B section 616 and 618 data for the 60 SEAs. The documentation must align the data used by the States to meet the Part B IDEA data to CEDS.

(b) Analyze the methods of collection, processing, and reporting the Part B IDEA data for commonalities and challenges and identify States in need of intensive or targeted TA.

Technical Assistance and Dissemination Activities.

(a) Provide intensive TA ⁷ to at least 10 States to improve their ability to utilize SLDS as sources for reporting Part B data required under sections 616 and 618 of IDEA. The Center should use information obtained through the activities described under paragraph (a) of the Knowledge Development Activities section of this priority to inform the intensive TA, which should be focused on States that are not using their SLDS to report their IDEA Part B section 616 and 618 data.

⁷ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

Note: Applicants must describe the methods and criteria they will use to recruit and select States for intensive TA. The Center must obtain approval from OSEP on the final selection of intensive TA States.

(b) Provide a range of targeted and general TA products and services for improving States' capacity to report high-quality Part B data required under sections 616 and 618 of IDEA. Such TA should include, at a minimum:

(1) Working with the Department to develop open source electronic tools to assist States in building EDFacts data files and reports that can be submitted to the Department and made available to the public. The tools should utilize CEDS and meet all States' and entities' needs associated with reporting the Part B data required under sections 616 and 618 of IDEA;

(2) Developing a plan to maintain the appropriate functionality of the open source electronic tools described in paragraph (1) as changes are made to data collections, reporting requirements, file specifications, and CEDS;

(3) Conducting training with State staff to use the open source electronic tools;

(4) Developing CEDS “Connections” ⁸ to calculate metrics needed to report the Part B data required under sections 616 and 618 of IDEA; and

⁸ For more information on CEDS Connections, see: https://ceds.ed.gov/connect.aspx.

(5) Developing white papers and presentations that include tools and solutions to challenges in data management procedures and data system architecture for reporting the Part B data required under sections 616 and 618 of IDEA.

Coordination Activities.

(a) Communicate and coordinate, on an ongoing basis, with other Department-funded projects, including those providing data-related support to States, such as IDC, DaSy, the CEDS initiative, the SLDS program, and the Privacy Technical Assistance Center; and

(b) Maintain ongoing communication with the OSEP project officer.

In addition to these programmatic requirements, to be considered for funding under this priority, applicants must meet the application and administrative requirements in this priority. OSEP encourages innovative approaches to meet these requirements, which are:

(a) Demonstrate, in the narrative section of the application under “Significance of the Project,” how the proposed project will—

(1) Address State challenges in collecting, analyzing, and accurately reporting valid and reliable IDEA data on State data management procedures and data systems architecture and in building EDFacts data files and reports for timely reporting of the IDEA data to the Department and the public. To meet this requirement the applicant must—

(i) Demonstrate knowledge of IDEA data collections and EDFacts file specifications for the IDEA data collection; and

(ii) Present information about the difficulties that States have encountered in the collection and submission of valid and reliable IDEA data;

(2) Result in improved IDEA data collection and reporting.

(b) Demonstrate, in the narrative section of the application under “Quality of the Project Services,” how the proposed project will—

(1) Achieve the project's goals, objectives, and intended outcomes. To meet this requirement, the applicant must provide—

(i) Measurable intended project outcomes; and

(ii) The logic model by which the proposed project will achieve its intended outcomes;

(2) Use a conceptual framework to develop project plans and activities, describing any underlying concepts, assumptions, expectations, beliefs, or theories, as well as the presumed relationships or linkages among them, and any empirical support for this framework;

(3) Be based on current research and make use of evidence-based practices. To meet this requirement, the applicant must describe—

(i) The current research on the effectiveness of IDEA data collection strategies, data management procedures, and data systems architectures;

(ii) How the current research about adult learning principles and implementation science will inform the proposed TA; and

(iii) How the proposed project will incorporate current research and evidence-based practices in the development and delivery of its products and services;

(4) Develop products and provide services that are of high quality and sufficient intensity and duration to achieve the intended outcomes of the proposed project. To address this requirement, the applicant must describe—

(i) How it will develop knowledge of States' data management processes and data systems architecture;

(ii) Its proposed approach to universal, general TA ⁹ for the 60 SEAs;

⁹ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,¹⁰ which must identify—

¹⁰ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of potential TA recipients to work with the project, assessing, at a minimum, their current infrastructure, available resources, and ability to build capacity at the local educational agency (LEA) level, as appropriate;

(iv) Its proposed approach to intensive, sustained TA, which must identify—

(A) The intended recipients of the products and services under this approach;

(B) Its proposed approach to measure the readiness of the SEAs to work with the proposed project including the SEA's commitment to the initiative, fit of the initiatives, current infrastructure, available resources, and ability to build capacity at the LEA level, as appropriate; and

(C) Its proposed plan for assisting SEAs to build training systems that include professional development based on adult learning principles and coaching.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of the Evaluation Plan,” how—

(1) The proposed project will collect and analyze data on specific and measurable goals, objectives, and intended outcomes of the project. To address this requirement, the applicant must describe its—

(i) Proposed evaluation methodologies, including instruments, data collection methods, and analyses; and

(ii) Proposed standards of effectiveness;

(2) The proposed project will use the evaluation results to examine the effectiveness of its implementation and its progress toward achieving the intended outcomes; and

(3) The methods of evaluation will produce quantitative and qualitative data that demonstrate whether the project achieved the intended outcomes.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes.

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) How key project personnel and any consultants and subcontractors will be allocated to the project and how these allocations are appropriate and adequate to achieve the project's intended outcomes;

(3) The proposed management plan will ensure that the products and services provided are of high quality; and

(4) The proposed project will benefit from a diversity of perspectives, including those of State and local personnel, TA providers, researchers, and policy makers, among others, in its development and operation.

(f) Address the following application requirements. The applicant must—

(1) Include in Appendix A of the application a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A of the application a conceptual framework for the project;

(3) Include in Appendix A of the application person-loading charts and timelines, as applicable, to illustrate the management plan described in the narrative;

(4) Include in the proposed budget funding for attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two annual two-day trips for Department briefings, Department-sponsored conferences, and other meetings, as requested by OSEP; and

(iv) A one-day intensive review meeting in Washington, DC, during the last half of the second year of the project period;

(5) Include in the budget a line item for an annual set-aside of five percent of the grant amount to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, subject to meeting applicable rulemaking requirements.

Note: This notice does not solicit applications. In any year in which we choose to use this proposed priority, we invite applications through a notice in the Federal Register.

Executive Orders 12866 and 13563

Under Executive Order 12866, the Secretary must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits justify its costs. In choosing among alternative regulatory approaches, we selected those approaches that maximize net benefits. Based on the analysis that follows, the Department believes that this regulatory action is consistent with the principles in Executive Order 13563.

We have also determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 14, 2014.
Michael K. Yudin,
Acting Assistant Secretary for Special Education and Rehabilitative Services.

[FR Doc. 2014-08796 Filed 4-16-14; 8:45 am]

BILLING CODE 4000-01-P